NATIONAL SCIENCE FOUNDATION

Advisory Committee for Environmental Research and Education; Notice of Meeting

In accordance with the Federal Advisory Committee Act (Pub. L. 92-463, as amended), the National Science Foundation (NSF) announces the following meeting:

Name and Committee Code: Advisory Committee for Environmental Research and Education (9487).

Date and Time: June 21, 2021; 1:00 p.m.-5:30 p.m. EDT.

Place: National Science Foundation, 2415 Eisenhower Avenue, Alexandria, VA 22314. Videoconference. Interested parties can register to join via teleconference at: https://nsf.zoomgov.com/meeting/register/vJIsf-CgqTMrGpd8QfHdZTUpaSQI_zt6Q8o, Closed Caption will be available at: https://www.captionedtext.com/client/event.aspx?EventID=4796118&CustomerID=321.

Type of Meeting: Open.

Contact Person: Dr. Anjuli Bamzai, Staff Associate, Office of Integrative Activities/Office of the Director/National Science Foundation, 2415 Eisenhower Avenue, Alexandria, VA 22314; (Email: abamzai@nsf.gov, Telephone: (703) 292-8688).

Minutes: May be obtained from the AC's website at: https://www.nsf.gov/ere/ereweb/minutes.jsp.

Purpose of Meeting: To provide advice, recommendations, and oversight concerning support for environmental research and education.

Agenda: To discuss subcommittee work and prepare for future advisory committee activities. Updated agenda will be available at https://www.nsf.gov/ere/ereweb/minutes.jsp.

Dated: May 19, 2021.
Crystal Robinson,
Committee Management Officer.

[FR Doc. 2021-10897 Filed 5-21-21; 8:45 am]

BILLING CODE 7555-01-P